DEPARTMENT OF AGRICULTURE

Animal and Plant Health Inspection Service

7 CFR Part 301

[Docket No. APHIS-2010-0037]

South American Cactus Moth Quarantine; Addition of the State of Louisiana

AGENCY: Animal and Plant Health Inspection Service, USDA.

ACTION: Affirmation of interim rule as final rule.

SUMMARY: We are adopting as a final rule, without change, an interim rule that amended the South American cactus moth regulations by adding the entire State of Louisiana to the list of quarantined areas. The interim rule restricted the interstate movement of regulated articles from areas in the State of Louisiana. This interim rule was necessary to prevent the artificial spread of the South American cactus moth to noninfested areas of the United States.

DATES: Effective on December 27, 2010, we are adopting as a final rule the interim rule published at 75 FR 41073-41074 on July 15, 2010.

FOR FURTHER INFORMATION CONTACT: Dr. Robyn Rose, South American Cactus Moth National Program Manager, Emergency and Domestic Programs, PPQ, APHIS, 4700 River Road Unit 26, Riverdale, MD 20737-1236; (301) 734-7121.

SUPPLEMENTARY INFORMATION:

Background

The South American cactus moth (Cactoblastis cactorum) is a grayish-brown moth with a wingspan of 22 to 35 millimeters (approximately 0.86 to 1.4 inches) that is indigenous to Argentina, southern Brazil, Paraguay, and Uruguay. It is a serious quarantine pest of Opuntia spp., and an occasional pest of Nopalea spp., Cylindropuntia spp., and Consolea spp., four closely related genera of the family Cactaceae. After an incubation period following mating, the female South American cactus moth deposits an egg stick resembling a cactus spine on the host plant. The egg stick, which consists of 70 to 90 eggs, hatches in 25 to 30 days and the larvae bore into the cactus pad to feed, eventually hollowing it out and killing the plant. Within a short period of time, the South American cactus moth can destroy whole stands of cactus.

The South American cactus moth regulations in 7 CFR 301.55 through 301.55-9 (referred to below as the regulations) restrict the interstate movement of regulated articles from quarantined areas to prevent the artificial spread of South American cactus moth to noninfested areas of the United States.

In an interim rule ¹ effective and published in the Federal Register on July 15, 2010 (75 FR 41073-41074, Docket No. APHIS-2010-0037), we amended the regulations by adding the State of Louisiana to the list of quarantined areas.

¹ To view the interim rule, go to http://www.regulations.gov/fdmspublic/component/main?main=DocketDetail&d=APHIS-2010-0037.

Comments on the interim rule were required to be received on or before September 13, 2010. We did not receive any comments. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 75 FR 41073-41074 on July 15, 2010.

Done in Washington, DC, this 16th day of December 2010.
Kevin Shea,
Acting Administrator, Animal and Plant Health Inspection Service.

[FR Doc. 2010-32261 Filed 12-23-10; 8:45 am]

BILLING CODE 3410-34-P